GENERAL SERVICES ADMINISTRATION

Federal Travel Regulation; Notice of GSA Bulletin FTR 05-07

AGENCY: Office of Governmentwide Policy, General Services Administration (GSA).

ACTION: Notice of a bulletin.

SUMMARY: This notice announces GSA Federal Travel Regulation (FTR) Bulletin 05-07. This Bulletin informs agencies that certain provisions of the FTR governing the authorization of actual subsistence expenses for official travel (both TDY and relocation) are temporarily waived as a result of Hurricane Rita, because it is expected that finding lodging facilities and/or adequate meals may be difficult, and distances involved may be great resulting in increased costs for per diem expenses. Bulletin FTR 05-07 may be found at www.gsa.gov/ftrbulletins.

DATES: The bulletin announced in this notice is effective September 24, 2005.

FOR FURTHER INFORMATION CONTACT: For clarification of content, contact General Services Administration, Office of Governmentwide Policy, Office of Travel, Transportation and Asset Management, at (202) 501-1777. Please cite Bulletin FTR

05-07.

SUPPLEMENTARY INFORMATION:

A. Background

As a result of the catastrophic destruction caused by Hurricane Rita, GSA is announcing GSA Bulletin FTR 05-07. Agencies should consider delaying all non-essential TDY and relocation to the affected locations for a period of 90 days. This is especially important with relocation travel because the 120-day maximum for TQSE cannot be extended due to statutory restrictions. While in the past, GSA has limited application of such waivers to Presidentially Declared Disaster Areas, in the case of Hurricane Rita, the widespread devastation coupled with the extensive evacuation of urban areas means that we cannot effectively determine the extent to which the ability to secure lodgings will be compromised. In this case, we are stating that each agency may determine whether Bulletin FTR 05-07 applies to travel which is impacted by Hurricane Rita.

B. Procedures

Bulletins regarding Federal travel expenses are located on the Internet at www.gsa.gov/ftrbulletins as Federal Travel Regulation (FTR) bulletins.

Dated: September 29, 2005.
Becky Rhodes,
Deputy Associate Administrator.

[FR Doc. 05-19973 Filed 10-4-05; 8:45 am]

BILLING CODE 6820-14-S